ENVIRONMENTAL PROTECTION AGENCY

40 CFR Part 52

[EPA-R03-OAR-2012-0965; FRL-9806-6]

Approval and Promulgation of Air Quality Implementation Plans; District of Columbia; Volatile Organic Compounds Emissions Reductions Regulations

AGENCY: Environmental Protection Agency (EPA).

ACTION: Final rule.

SUMMARY: EPA is approving a State Implementation Plan (SIP) revision submitted by the District of Columbia. This SIP revision consists of amendments to Chapters 1 and 7 of Title 20 (Environment) of the District of Columbia Municipal Regulations (DCMR) for the Control of Volatile Organic Compounds (VOC) to meet the requirement to adopt reasonably available control technology (RACT) for sources as recommended by the Ozone Transport Commission (OTC) model rules and EPA's Control Techniques Guidelines (CTG) standards. This SIP revision also includes negative declarations for various VOC source categories. EPA is approving the regulation changes and the negative declarations in accordance with the requirements of the Clean Air Act (CAA).

DATES: This final rule is effective on May 29, 2013.

ADDRESSES: EPA has established a docket for this action under Docket ID Number EPA-R03-OAR-2012-0965. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103. Copies of the State submittal are available at the District of Columbia. Department of the Environment, Air Quality Division, 1200 1st Street NE., 5th floor, Washington, DC 20002.

FOR FURTHER INFORMATION CONTACT: Gregory Becoat, (215) 814-2036, or by email at becoat.gregory@epa.gov.

SUPPLEMENTARY INFORMATION:

I. Summary of SIP Revision

On February 11, 2013 (78 FR 9648), EPA published a notice of proposed rulemaking (NPR) for the District of Columbia. The NPR proposed approval of amendments to Chapters 1 and 7 of Title 20 (Environment) of the DCMR for the control of VOCs to meet the requirement to adopt RACT and negative declarations for various VOC source categories. The formal SIP revision was submitted by the District of Columbia on January 26, 2010, March 24, 2011, and March 15, 2012. The SIP revision amends the District's regulations to impose the VOC RACT requirements as recommended by OTC's model rules for consumer products, adhesives and sealants, architectural and industrial maintenance, portable fuel containers and spouts, and solvent cleaning and also include VOC RACT requirements consistent with EPA's CTGs for flexible packaging and printing, large appliance coatings, metal furniture coatings, and miscellaneous metal products and plastic parts coatings, lithographic and letterpress printing, miscellaneous industrial adhesives, and industrial cleaning solvents. The SIP revision also consists of negative declarations for the following VOC source categories: Auto and Light-duty Truck Assembly Coatings; Fiberglass Boat Manufacturing Materials; Paper, Film and Foil Coatings; and Flatwood Paneling. EPA received no adverse comments on the NPR to approve the District of Columbia's SIP revision. A more complete explanation of the amendments and the rationale for EPA's proposed action is explained in the technical support document and the NPR in support of this final rulemaking and will not be restated here.

II. Final Action

EPA is approving the District of Columbia's SIP revisions adopting VOC RACT requirements for various source categories. EPA is also approving the District's negative declarations pursuant to section 182(b)(2)(A) of the CAA for those CTG categories where no sources are located in the District.

III. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• is not a “significant regulatory action” subject to review by the Office of Management and Budget under Executive Order 12866 (58 FR 51735, October 4, 1993);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by June 28, 2013. Filing a petition for reconsideration by the Administrator of this final rule does not affect the finality of this action for the purposes of judicial review nor does it extend the time within which a petition for judicial review may be filed, and shall not postpone the effectiveness of such rule or action.

This action approving the District's amendments to regulations for the control of VOCs and negative declarations for various VOC source categories may not be challenged later in proceedings to enforce its requirements. (See section 307(b)(2).)

List of Subjects in 40 CFR Part 52

Environmental protection, Air pollution control, Incorporation by reference, Intergovernmental relations, Ozone, Volatile organic compounds.

Dated: April 16, 2013.
W.C. Early,
Acting Regional Administrator, Region III.

40 CFR part 52 is amended as follows:

PART 52—APPROVAL AND PROMULGATION OF IMPLEMENTATION PLANS

1. The authority citation for part 52 continues to read as follows:

Authority: 42 U.S.C. 7401 et seq.

Subpart J—District of Columbia

2. In § 52.470,

a. The table in paragraph (c) is amended by:

i. Revising the entry for Section 100.

ii. Revising the entry for Section 199.

iii. Revising the entry for Section 700.

iv. Removing the entries for Sections 707 and 708.

v. Revising the entry for Section 710.

vi. Adding an entry for Section 714 in numerical order.

vii. Revising the entries for Sections 715, 716, and 719 through 737.

viii. Removing the entries for Sections 738, 739, 740, 741, and 742.

ix. Revising the entries for Sections 743 through 749.

x. Removing the entry for Section 750.

xi. Revising the entries for Sections 751 through 754.

xii. Adding entries for Sections 755 through 758, 763 through 771, and 773 through 778 in numerical order.

xiii. Revising the entry for Section 799.

b. The table in paragraph (e) is amended by revising the entry for Negative Declarations—VOC Source Categories.

The added and revised text reads as follows:

§ 52.470 Identification of plan.

* * * * *

(c) * * *

EPA-Approved District of Columbia Regulations
State citation | Title/subject | State effective date | EPA approval date | Additional explanation
District of Columbia Municipal Regulations (DCMR), Title 20—Environment
Chapter 1 General
Section 100 | Purpose, Scope and Construction | 12/30/11 | 4/29/13 [Insert page number where the document begins] | Paragraph 100.4 is revised.
* * * * * * *
Section 199 | Definitions and Abbreviations | 12/30/11 | 4/29/13 [Insert page number where the document begins] | Removes the following definitions and terms: “Control technique guideline,” “Cylinder-wipe,” “Gravure,” “Heatset,” “Inking cylinder,” “Intaglio,” “Letterpress,” “Letterset,” “Offset printing process,” “Paper-wipe,” “Photochemically reactive solvent,” “Plate,” “Printing,” “Printing operation,” “Printing unit,” “Water-based solvent,” and “Wipe cleaning.” Repeals “Volatile organic compounds” and replaced it with a new definition for VOCs.
* * * * * * *
Chapter 7 Volatile Organic Compounds
Section 700 | Miscellaneous Volatile Organic Compounds | 12/30/11 | 4/29/13 [Insert page number where the document begins] | Title changed.
* * * * * * *
Section 710 | Intaglio, Flexographic, and Rotogravure Printing | 12/30/11 | 4/29/13 [Insert page number where the document begins]
* * * * * * *
Section 714 | Control Techniques Guidelines | 12/30/11 | 4/29/13 [Insert page number where the document begins] | Section Added.
Section 715 | Major Source and Case-By-Case Reasonably Available Control Technology (RACT) | 12/30/11 | 4/29/13 [Insert page number where the document begins] | Title Changed.
Section 716 | Offset Lithography and Letterpress Printing | 12/30/11 | 4/29/13 [Insert page number where the document begins] | Title Changed.
* * * * * * *
Section 719 | Consumer Products—General Requirements | 12/30/11 | 4/29/13 [Insert page number where the document begins]
Section 720 | Consumer Products—VOC Standards | 12/30/11 | 4/29/13 [Insert page number where the document begins]
Section 721 | Consumer Products—Exemptions from VOC Standards | 12/30/11 | 4/29/13 [Insert page number where the document begins]
Section 722 | Consumer Products—Registered Under FIFRA | 12/30/11 | 4/29/13 [Insert page number where the document begins]
Section 723 | Consumer Products—Products Requiring Dilution | 12/30/11 | 4/29/13 [Insert page number where the document begins]
Section 724 | Consumer Products—Ozone Depleting Compounds | 12/30/11 | 4/29/13 [Insert page number where the document begins]
Section 725 | Consumer Products—Aerosol Adhesives | 12/30/11 | 4/29/13 [Insert page number where the document begins]
Section 726 | Consumer Products—Antiperspirants Or Deodorants | 12/30/11 | 4/29/13 [Insert page number where the document begins]
Section 727 | Consumer Products—Contact Adhesives, Electronic Cleaners, Footwear And Leather Care Products, And General Purpose Degreasers | 12/30/11 | 4/29/13 [Insert page number where the document begins] | Title Changed.
Section 728 | Consumer Products—Adhesive Removers, Electrical Cleaners, And Graffiti Removers | 12/30/11 | 4/29/13 [Insert page number where the document begins] | Title Changed.
Section 729 | Consumer Products—Solid Air Fresheners And Toilet/Urinal Care Products | 12/30/11 | 4/29/13 [Insert page number where the document begins] | Title Changed.
Section 730 | Consumer Products—Charcoal Lighter Materials | 12/30/11 | 4/29/13 [Insert page number where the document begins] | Title Changed.
Section 731 | Consumer Products—Floor Wax Strippers | 12/30/11 | 4/29/13 [Insert page number where the document begins] | Title Changed.
Section 732 | Consumer Products—Labeling Of Contents | 12/30/11 | 4/29/13 [Insert page number where the document begins] | Title Changed.
Section 733 | Consumer Products—Reporting Requirements | 12/30/11 | 4/29/13 [Insert page number where the document begins] | Title Changed.
Section 734 | Consumer Products—Test Methods | 12/30/11 | 4/29/13 [Insert page number where the document begins] | Title Changed.
Section 735 | Consumer Products—Alternative Control Plans | 12/30/11 | 4/29/13 [Insert page number where the document begins] | Title Changed.
Section 736 | Consumer Products—Innovative Products Exemption | 12/30/11 | 4/29/13 [Insert page number where the document begins] | Title Changed.
Section 737 | Consumer Products—Variance Requests | 12/30/11 | 4/29/13 [Insert page number where the document begins] | Title Changed.
Section 743 | Adhesives and Sealants—General Requirements | 12/30/11 | 4/29/13 [Insert page number where the document begins] | Title Changed.
Section 744 | Adhesives and Sealants—VOC Standards | 12/30/11 | 4/29/13 [Insert page number where the document begins] | Title Changed.
Section 745 | Adhesives and Sealants—Exemptions and Exceptions | 12/30/11 | 4/29/13 [Insert page number where the document begins] | Title Changed.
Section 746 | Adhesives and Sealants—Administrative Requirements | 12/30/11 | 4/29/13 [Insert page number where the document begins] | Title Changed.
Section 747 | Adhesives and Sealants—Compliance Procedures and Test Methods | 12/30/11 | 4/29/13 [Insert page number where the document begins] | Title Changed.
Section 748 | Adhesives and Sealants—Container Labeling | 12/30/11 | 4/29/13 [Insert page number where the document begins] | Title Changed.
Section 749 | Adhesives and Sealants—Application Methods | 12/30/11 | 4/29/13 [Insert page number where the document begins] | Title Changed.
Section 751 | Portable Fuel Containers and Spouts—General Requirements | 12/30/11 | 4/29/13 [Insert page number where the document begins] | Title Changed.
Section 752 | Portable Fuel Containers and Spouts—Performance Standards and Test Procedures | 12/30/11 | 4/29/13 [Insert page number where the document begins] | Title Changed.
Section 753 | Portable Fuel Containers and Spouts—Exemptions | 12/30/11 | 4/29/13 [Insert page number where the document begins] | Title Changed.
Section 754 | Portable Fuel Containers and Spouts—Labeling Requirements | 12/30/11 | 4/29/13 [Insert page number where the document begins] | Title Changed.
Section 755 | Portable Fuel Containers and Spouts—Certification and Compliance Test Procedures | 12/30/11 | 4/29/13 [Insert page number where the document begins] | Section Added.
Section 756 | Portable Fuel Containers and Spouts—Enforcement | 12/30/11 | 4/29/13 [Insert page number where the document begins] | Section Added.
Section 757 | Portable Fuel Containers and Spouts—Innovative Product Exemption | 12/30/11 | 4/29/13 [Insert page number where the document begins] | Section Added.
Section 758 | Portable Fuel Containers and Spouts—Variance | 12/30/11 | 4/29/13 [Insert page number where the document begins] | Section Added.
Section 763 | Solvent Cleaning—General Requirements | 12/30/11 | 4/29/13 [Insert page number where the document begins] | Section Added.
Section 764 | Solvent Cleaning—Cold Cleaning | 12/30/11 | 4/29/13 [Insert page number where the document begins] | Section Added.
Section 765 | Solvent Cleaning—Batch Vapor Cleaning | 12/30/11 | 4/29/13 [Insert page number where the document begins] | Section Added.
Section 766 | Solvent Cleaning—In-Line Vapor Cleaning | 12/30/11 | 4/29/13 [Insert page number where the document begins] | Section Added.
Section 767 | Solvent Cleaning—Airless and Air-Tight Cleaning | 12/30/11 | 4/29/13 [Insert page number where the document begins] | Section Added.
Section 768 | Solvent Cleaning—Alternative Compliance | 12/30/11 | 4/29/13 [Insert page number where the document begins] | Section Added.
Section 769 | Solvent Cleaning—Recordkeeping and Monitoring | 12/30/11 | 4/29/13 [Insert page number where the document begins] | Section Added.
Section 770 | Miscellaneous Industrial Solvent Cleaning Operations | 12/30/11 | 4/29/13 [Insert page number where the document begins] | Section Added.
Section 771 | Miscellaneous Cleaning and VOC Materials Handling Standards | 12/30/11 | 4/29/13 [Insert page number where the document begins] | Section Added.
Section 773 | Architectural and Industrial Maintenance Coating—General Requirements | 12/30/11 | 4/29/13 [Insert page number where the document begins] | Section Added.
Section 774 | Architectural and Industrial Maintenance Coating—Standards | 12/30/11 | 4/29/13 [Insert page number where the document begins] | Section Added.
Section 775 | Architectural and Industrial Maintenance Coating—Exemptions | 12/30/11 | 4/29/13 [Insert page number where the document begins] | Section Added.
Section 776 | Architectural and Industrial Maintenance Coating—Labeling Requirements | 12/30/11 | 4/29/13 [Insert page number where the document begins] | Section Added.
Section 777 | Architectural and Industrial Maintenance Coating—Reporting Requirements | 12/30/11 | 4/29/13 [Insert page number where the document begins] | Section Added.
Section 778 | Architectural and Industrial Maintenance Coating—Testing Requirements | 12/30/11 | 4/29/13 [Insert page number where the document begins] | Section Added.
Section 799 | Definitions | 12/30/11 | 4/29/13 [Insert page number where the document begins] | Revised to update the definitions, terms, and the section title.
* * * * * * *

* * * * *

(e) * * *

Name of non-regulatory SIP revision | Applicable geographic area | State submittal date | EPA approval date | Additional explanation
* * * * * * *
Negative Declarations—VOC Source Categories | Metropolitan Washington ozone nonattainment area | 4/8/93, 9/4/97 | 10/27/99, 64 FR 57777 | 52.478(a), 52.478(b).
Negative Declarations—VOC Source Categories | Metropolitan Washington ozone nonattainment area | 1/26/10, 3/24/11 | 4/29/13 [Insert Federal Register page number where the document begins and date] | 52.478(c).
* * * * * * *

3. Section 52.478 is amended by adding paragraph (c) to read as follows:

§ 52.478 Rules and regulations.

* * * * *

(c) On March 24, 2011, the District of Columbia submitted a letter to EPA declaring that there are no sources located in the District which belong to the following VOC categories:

(1) Auto and Light-duty Truck Assembly Coatings;

(2) Fiberglass Boat Manufacturing Materials;

(3) Paper, Film and Foil Coatings;

(4) Flatwood Paneling.

[FR Doc. 2013-09937 Filed 4-26-13; 8:45 am]

BILLING CODE 6560-50-P